NUCLEAR REGULATORY COMMISSION

[Docket No. 40-9075-LR; ASLBP No. 25-987-01-LR-BD01]

Atomic Safety and Licensing Board Panel; Before Administrative Judges: Jeremy A. Mercer, Chair; Nicholas G. Trikouros; Dr. Gary S. Arnold; In the Matter of: Powertech (USA) Inc., (Dewey-Burdock In Situ Uranium Recovery Facility) Order (Notice of Hearing)

February 25, 2025.

This proceeding concerns the March 4, 2024 license renewal application (“LRA”) of Powertech (USA) Inc. for a 20-year renewal of its operating license for a yet-to-be constructed in-situ uranium recovery facility (“Dewey-Burdock Project”) in western South Dakota.¹ In response to a Notice in the Federal Register setting October 8, 2024, as the deadline for interested persons to submit petitions to intervene,² the Oglala Sioux Tribe, the Black Hills Clean Water Alliance, and the NDN Collective (together, the “Organizational Petitioners”) timely filed a Petition to Intervene and Request for Hearing.³

¹ 89 FR 65401 (Aug. 9, 2024); Letter from Peter Luthiger, Chief Operating Officer, Powertech, to Director, Office of Nuclear Materials Safety and Safeguards (NMSS) (Mar. 4, 2024) (ADAMS Accession No. ML24081A103). One of the enclosures to the LRA is a combined technical/environmental report. See id. unnumbered encl., Powertech, Dewey-Burdock Project, [LRA] for SUA-1600 Fall River and Custer Counties, South Dakota, Combined Technical Report/Environmental Report (Mar. 2024) (ADAMS Accession No. ML24082A062).

² 89 FR 65401 (Aug. 9, 2024).

³ Powertech (USA) Inc. (Dewey-Burdock In Situ Uranium Recovery Facility), LBP-25-03, 101 NRC __, __ (slip op. at 3) (Jan. 31, 2025) (ADAMS Accession No. ML25031A411).

On October 15, 2024, this three-member Atomic Safety and Licensing Board (“Board”) was established to preside over this Proceeding.⁴ Thereafter, in a January 31, 2025 issuance, the Board determined that the Organizational Petitioners had standing and had submitted three admissible contentions, as reformulated by the Board, and so admitted the Organizational Petitioners as parties to this proceeding.⁵ The Nuclear Regulatory Commission (“NRC”) Staff filed a Notice of Intent to Participate as a Party on February 12, 2025.

⁴ Establishment of Atomic Safety and Licensing Board, 89 FR 84206 (Oct. 21, 2024) (ADAMS Accession No. ML24289A135).

⁵ Powertech, LBP-25-03, 101 NRC at __ (slip op. at 8-16, 19-50, 62). Ms. Susan Henderson also timely filed a Petition for Leave to Intervene. Id. (slip op. at 2 & n.6). The Board determined that Ms. Henderson had standing but failed to submit an admissible contention. Id. (slip op. at 16-18, 57-62). Accordingly, the Board denied Ms. Henderson's Petition. Id. (slip op. at 62).

In light of the foregoing, and pursuant to 10 CFR 2.312, please take notice that a hearing will be held in this proceeding at a time and place to be fixed by subsequent Order. The hearing will be conducted using the procedures set forth in 10 CFR part 2, subparts C and L.

During the course of this proceeding, the Board may conduct oral argument, hold pre-hearing conferences, and conduct evidentiary hearings.⁶ Unless otherwise ordered, the public is invited to attend any oral argument, prehearing conference, or evidentiary hearing.⁷ Notices of those sessions will be published in the Federal Register and/or made available to the public at the NRC Public Document Room (“PDR”), located at One White Flint North, 11555 Rockville Pike, Rockville, Maryland,⁸ and through the NRC website, www.nrc.gov.

⁶ See 10 CFR 2.327-2.329, 2.331, 2.1206-2.1208.

⁷ 10 CFR 2.328.

⁸ Information on accessing the PDR can be found at https://www.nrc.gov/reading-rm/pdr.html (last accessed February 20, 2025).

Additionally, as provided in 10 CFR 2.315(a) and in the Board's Initial Pre-hearing Order,⁹ any person not a party to the proceeding may submit a written limited appearance statement. Limited appearance statements, which are placed in the docket for this proceeding (i.e., they are available to the public), provide members of the public with an opportunity to make the Board and/or the participants (now parties) aware of their concerns about any matters at issue in the proceeding, particularly any concerns associated with the admitted contentions. A written limited appearance statement can be submitted at any time, must identify clearly this proceeding (preferably at least by use of the docket number 40-9075-LR), and should be sent to the Office of the Secretary using one of the methods prescribed below:

⁹ Licensing Board Memorandum and Order (Initial Prehearing Order) (Oct. 17, 2024) (unpublished) (ADAMS Accession No. ML24291A098).

Mail to: Office of the Secretary, Rulemakings and Adjudications Staff, U.S. Nuclear Regulatory Commission, Washington, DC 20555-0001.

Fax to: (301) 415-1101 (verification (301) 415-1677).

Email to: hearing.docket@nrc.gov.

Additionally, whoever submits a written limited appearance statement should send a copy of it to the Board Chair, using the same method, at the address below:

Mail to: Administrative Judge Jeremy A. Mercer, Atomic Safety and Licensing Board Panel, Mail Stop T3 A02, U.S. Nuclear Regulatory Commission, Washington, DC 20555-0001.

Fax to: (301) 415-5599 (verification (301) 415-7550).

Email to: jeremy.mercer@nrc.gov.

Further, at a later date, the Board may conduct oral limited appearance sessions regarding this In Situ Recovery proceeding at a location, or locations, in the vicinity of the Dewey-Burdock Project. If one or more oral limited appearance session is/are scheduled, notice will be published in the Federal Register and/or made available to the public at the PDR and on the NRC website, www.nrc.gov.

Documents relating to this proceeding are available for public inspection at the PDR or can be obtained electronically from the publicly available records component of NRC's Agencywide Documents Access and Management System (“ADAMS”). ADAMS, including its adjudicatory proceeding-related Electronic Hearing Docket, is accessible from the NRC website at https://www.nrc.gov/reading-rm/adams.html. Persons who do not have access to ADAMS, or who encounter problems in accessing the documents located in ADAMS, should contact the PDR reference staff by telephone at 1-800-397-4209 or by email to pdr.resource@nrc.gov.

It is so ordered.

For the Atomic Safety and Licensing Board.

Dated: February 25, 2025. Rockville, Maryland.
Jeremy Mercer,
Chair, Administrative Judge.

[FR Doc. 2025-03287 Filed 2-27-25; 8:45 am]

BILLING CODE 7590-01-P